DEPARTMENT OF COMMERCE

International Trade Administration

[Application No. 97-9A003]

Export Trade Certificate of Review

ACTION: Notice of Issuance (# 97-9A003) of an Amended Export Trade Certificate of Review Issued to the Association for the Administration of Rice Quotas, Inc.

SUMMARY: The U.S. Department of Commerce issued an amended Export Trade Certificate of Review to the Association for the Administration of Rice Quotas, Inc. (“AARQ”) on March 31, 2009. The Certificate has been amended nine times. The most recent previous amendment was issued to AARQ on February 14, 2005, and published in the Federal Register February 23, 2005 (70 FR 8766). The original Export Trade Certificate of Review No. 97-00003 was issued to AARQ on January 21, 1998, and published in the Federal Register on January 28, 1998, (63 FR 4220).

FOR FURTHER INFORMATION CONTACT: Jeffrey Anspacher, Director, Export Trading Company Affairs, International Trade Administration, by telephone at (202) 482-5131 (this is not a toll-free number) or by e-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2008).

Export Trading Company Affairs is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

AARQ's Export Trade Certificate of Review has been amended to:

1. Delete the following companies as Members of the Certificate: California Rice Marketing LLC, Sacramento, CA; ConAgra Foods, Inc., Omaha, Nebraska, and its subsidiary ConAgra Trade Group, Inc., Omaha, Nebraska (formerly Alliance Grain, Inc., Marlton, New Jersey); Gold River Mills, LLC, Woodland, California (formerly Gold River Mills, LLC dba California Pacific Rice Milling, Woodland, California); International Grain Brokerage, LLC, Yuba City, California; MasterfoodsUSA, a Mars, Incorporated Company, Greenville, Mississippi; RiceTec, Inc., Alvin, Texas; and Supreme Rice Mill, Inc., Crowley, Louisiana.

2. Add the following company as a new Member of the Certificate within the meaning of section 325.2(1) of the Regulations (15 CFR 325.(1)): “SunFoods LLC, Woodland, California.” SunFoods LLC is a U.S. joint venture rice milling and marketing company. The SunFoods LLC joint venture includes a 65 percent majority share by Ricegrowers Limited of Sydney, Australia (trading as SunRice) and the amalgamated assets and brands previously held by Gold River Mills, LLC, Woodland, California (formerly Gold River Mills, LLC dba California Pacific Rice Milling, Woodland, California).

3. Amend the listings of the following Members: “AFE (USA) Inc.” has been amended to read “Nobel Logistics USA Inc.” due to a corporate name change; “Busch Agricultural Resources, Inc. and its subsidiary Pacific International Rice Mills, Inc.” has been amended to read “Busch Agricultural Resources, LLC and its subsidiary Pacific International Rice Mills, LLC (both subsidiaries of Anheuser-Busch, Inc., which is a subsidiary of Anheuser-Busch InBev)” due to changes in corporate structures; and “Cargill Americas, Inc.” has been amended to read “Cargill Americas, Inc., and its subsidiary CAI Trading Company LLC” due to a change in corporate structure.

4. In addition to the above, the Export Trade Activities and Methods of Operation section of AARQ's Certificate has been updated to delete obsolete references to AARQ's earlier years of operation and add clarification or make corrections as follows: Item 2.E.(a)(ii) has been amended from “a minimum bid quantity of twenty (20) metric tons” to read “a minimum bid quantity of eighteen (18) metric tons”; Item 2.H.(a) has been amended from a reference to “paragraphs (b) through (g) below” to read “paragraphs (b) through (d) below”; and Item 2.H.(c)(iii) has been amended from “The computation of Members' exports under this paragraph (e)” to read “The computation of Members' exports under this paragraph (c).” In addition, Item 1. of the section for Terms and Conditions of Certificate has been amended from “Except as authorized in Paragraphs 2.E(d) and H(c) and (d) of the Export Trade Activities and Methods of Operation” to read “Except as authorized in Paragraph 2.E(d) of the Export Trade Activities and Methods of Operation.”

The effective date of the amended certificate is December 31, 2008. A copy of the amended certificate will be kept in the International Trade Administration's Freedom of Information Records Inspection Facility, Room 4001, U.S. Department of Commerce, 14th Street and Constitution Avenue, NW., Washington, DC 20230.

Dated: March 31, 2009.
Jeffrey Anspacher,
Director, Export Trading Company Affairs.

[FR Doc. E9-8168 Filed 4-9-09; 8:45 am]

BILLING CODE 3510-DR-P